DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; revision of a currently approved information collection; OMB No. 1660-0097; FEMA Form—None.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before July 20, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: Citizen Corps Affiliate Programs and Organizations Application.

Type of Information Collection: Revision of a currently approved information collection.

OMB Number: 1660-0097.

Form Titles and Numbers: FEMA Form—None.

Abstract: Citizen Corps Affiliate Programs and Organizations offer communities resources for public education, outreach, and training; represent volunteers interested in helping to make their community safer; or offer volunteer service opportunities to support first responders, disaster relief activities, and community safety efforts. Providing formal recognition to these programs and similar organizations through Affiliation with Citizen Corps, the program reaches a broader audience which can assist in reaching the goal of having every American participate in making their communities and families safer.

Affected Public: “Not-for-profit Institutions”.

Estimated Number of Respondents: 8.

Frequency of Response: On occasion.

Estimated Average Hour Burden per Respondent: 4.

Estimated Total Annual Burden Hours: 32.

Estimated Cost: There is no annual reporting or recordkeeping cost associated with this collection.

Larry Gray,
Director, Records Management Division, Office of Management, Federal Emergency Management Agency, Department of Homeland Security.

[FR Doc. E9-14477 Filed 6-18-09; 8:45 am]

BILLING CODE 9111-05-P